DEPARTMENT OF THE TREASURY

Office of the Comptroller of the Currency

12 CFR Part 41

[Docket No. 05-18]

RIN 1557-AC85

FEDERAL RESERVE SYSTEM

12 CFR Parts 222 and 232

[Regulation V and FF; Docket No. R-1188]

FEDERAL DEPOSIT INSURANCE CORPORATION

12 CFR Part 334

RIN 3064-AC81

DEPARTMENT OF THE TREASURY

Office of Thrift Supervision

12 CFR Part 571

[No. 2005-49]

RIN 1550-AB88

NATIONAL CREDIT UNION ADMINISTRATION

12 CFR Part 717

Fair Credit Reporting Medical Information Regulations; Correction

AGENCIES: Office of the Comptroller of the Currency, Treasury (OCC); Board of Governors of the Federal Reserve System (Board); Federal Deposit Insurance Corporation (FDIC); Office of Thrift Supervision, Treasury (OTS); National Credit Union Administration (NCUA).

ACTION: Final rule; correction.

SUMMARY: The OCC, Board, FDIC, OTS, and NCUA (Agencies) published a final rule to implement section 411 of the Fair and Accurate Credit Transactions Act of 2003 (FACT Act). The intent of that final rule was to finalize, with changes, the interim regulations published on June 10, 2005 and to republish the remaining requirements. However, due to technical errors in the formatting of the November 22, 2005 document, duplicate provisions were added. To correct this error, this document revises the amendatory instructions which added duplicative text.

DATES: This correction is effective December 22, 2005.

FOR FURTHER INFORMATION CONTACT:

OCC: Patrick T. Tierney, Senior Attorney, Legislative and Regulatory Activities Division, (202) 874-5090, Office of the Comptroller of the Currency, 250 E Street, SW., Washington, DC 20219.

Board: David A. Stein, Counsel; Minh-Duc T. Le, Ky Tran-Trong, or Krista P. DeLargy, Senior Attorneys, Division of Consumer and Community Affairs, (202) 452-3667 or (202) 452-2412; or Andrew Miller, Counsel, Legal Division, (202) 452-3428, Board of Governors of the Federal Reserve System, 20th and C Streets, NW., Washington, DC 20551.

FDIC: Richard M. Schwartz, Counsel, Legal Division, (202) 898-7424; David Lafleur, Policy Analyst, (202) 898-6569, or Patricia Cashman, Senior Policy Analyst, Division of Supervision and Consumer Protection, (202) 898-6534, Federal Deposit Insurance Corporation, 550 17th Street, NW., Washington, DC 20429.

OTS: Glenn Gimble, Senior Project Manager, Operation Risk, (202) 906-7158; Richard Bennett, Counsel, (202) 906-7409, Office of Thrift Supervision, 1700 G Street, NW., Washington, DC 20552.

NCUA: Regina M. Metz, Staff Attorney, Office of General Counsel, (703) 518-6540, National Credit Union Administration, 1775 Duke Street, Alexandria, VA 22314-3428.

SUPPLEMENTARY INFORMATION: In the final rule FR Doc. 05-22830 published in the Federal Register on November 22, 2005 (70 FR 70664) make the following corrections:

PART 41—[CORRECTED]

1. On page 70675, in the second column, instruction number 3 is corrected to read “Subpart D is revised to read as follows:”.

PART 222—[CORRECTED]

2. On page 70678, in the third column, instruction number 2 is corrected to read “Amend subpart A to part 222 by revising §§ 222.2 and 222.3 to read as follows:”.

3. On page 70679, in the first column, instruction number 3 is corrected to read “Subpart D is revised to read as follows:”.

PART 232—[CORRECTED]

4. On page 70682, in the second column, instruction number 4 is corrected to read “Part 232 is revised to read as follows:”.

PART 334—[CORRECTED]

5. On page 70685, in the second column, instruction number 2 is corrected to read “Subpart A is revised to read as follows:”.

6. On page 70686, in the first column, instruction number 3 is corrected to read “Subpart D is revised to read as follows:”.

PART 571—[CORRECTED]

7. On page 70689, in the second column, instruction number 3 is corrected to read “Section 571.2 is revised to read as follows:”.

8. On page 70689, in the third column, instruction number 5 is corrected to read “Subpart D is revised to read as follows:”.

PART 717—[CORRECTED]

9. On page 70693, in the second column, instruction number 3 is corrected to read “Subpart D is revised to read as follows:”.

Dated: December 9, 2005.
John C. Dugan,
Comptroller of the Currency.
By order of the Board of Governors of the Federal Reserve System, December 16, 2005.
Jennifer J. Johnson,
Secretary of the Board.
Dated at Washington, DC, this 1st day of December, 2005.
Federal Deposit Insurance Corporation.
Carol L. Middlebrook,
Special Assistant to the Executive Secretary.
Dated: December 8, 2005.
By the Office of Thrift Supervision.
Deborah Dakin,
Senior Deputy Chief Counsel.
By the National Credit Union Administration Board on December 15, 2005.
Mary F. Rupp,
Secretary of the Board.

[FR Doc. 05-24370 Filed 12-21-05; 8:45 am]

BILLING CODE 4810-33-P; 6210-01-P; 6714-10-P; 6720-01-P; 7535-01-P